ENVIRONMENTAL PROTECTION AGENCY

[EPA-HQ-OLEM-2024-0477; FRL-13169-01-OMS]

Agency Information Collection Activities; Submission to the Office of Management and Budget for Review and Approval; Comment Request; Brownfields Program—Accomplishment Reporting in Assessment, Cleanup and Redevelopment Exchange System (ACRES) (Revision)

AGENCY: Environmental Protection Agency (EPA).

ACTION: Notice.

SUMMARY: The Environmental Protection Agency (EPA) has submitted an information collection request (ICR), Brownfields Program—Accomplishment Reporting in Assessment, Cleanup and Redevelopment Exchange System (EPA ICR Number 2104.10, OMB Control Number 2050-0192) to the Office of Management and Budget (OMB) for review and approval in accordance with the Paperwork Reduction Act. This is a proposed revision of the ICR, which is currently approved through March 31, 2026. Public comments were previously requested via the Federal Register on October 25, 2024 during a 60-day comment period. This notice allows for an additional 30 days for public comments.

DATES: Comments may be submitted on or before February 17, 2026.

ADDRESSES: Submit your comments, referencing Docket ID Number EPA-HQ-OLEM-2024-0477, to EPA online using www.regulations.gov (our preferred method), or by mail to: EPA Docket Center, Environmental Protection Agency, Mail Code 28221T, 1200 Pennsylvania Ave. NW, Washington, DC 20460. EPA's policy is that all comments received will be included in the public docket without change including any personal information provided, unless the comment includes profanity, threats, information claimed to be Confidential Business Information (CBI) or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Nicole Wireman, Office of Brownfields and Land Revitalization, (5105T), Environmental Protection Agency, 1200 Pennsylvania Ave. NW, Washington, DC 20460; telephone number: (202) 566-2649; email address: wireman.nicole@epa.gov.

SUPPLEMENTARY INFORMATION: This is a proposed revisions of the ICR, which is currently approved through March 31, 2026. An agency may not conduct or sponsor and a person is not required to respond to a collection of information unless it displays a currently valid OMB control number.

Public comments were previously requested via the Federal Register on October 25, 2024 during a 60-day comment period (89 FR 85197). This notice allows for an additional 30 days for public comments. Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Abstract: This ICR covers the collection of information from those organizations that receive cooperative agreements and contracts from EPA under the authority of the section 104(k) of the Comprehensive Environmental Response, Compensation, and Liability Act (CERCLA) as amended by the Brownfields Utilization, Investment, and Local Development (BUILD) Act (Pub. L. 115-141). CERCLA 104(k), as amended, authorizes EPA to award grants or cooperative agreements and contract funding to states, tribes, local governments, other eligible entities, and nonprofit organizations to support the assessment and cleanup of brownfields sites. Under section 101(39) of CERCLA, a brownfields site means real property, the expansion, redevelopment, or reuse of which may be complicated by the presence or potential presence of a hazardous substance, pollutant, or contaminant. Cooperative agreement recipients (“recipients”) have general reporting and record keeping requirements as a condition of their cooperative agreement that result in burden. A portion of this reporting and record keeping burden is authorized under 2 CFR part 1500 and identified in the EPA's general grants ICR (OMB Control Number 2030-0020). EPA requires Brownfields program recipients to maintain and report additional information to EPA on the uses and accomplishments associated with funded brownfields activities. EPA will use twelve forms to assist recipients and contractors in reporting the information and to ensure consistency of the information collected. Technical assistance contractors will report in only one of the twelve ACRES forms; however, since less than 10 contractors report, ICR approval is not required for that form. EPA uses the collected information to meet Federal stewardship responsibilities to manage and track how program funds are being spent, to evaluate the performance of the Brownfields Cleanup and Land Revitalization Program, to meet the Agency's reporting requirements under the Government Performance and Results Act, and to report to Congress and other program stakeholders on the status and accomplishments of the program.

Form numbers: 6200-3, 6200-4, 6200-18, 560F22290, 560F22291, 560F22292, 560F24197, 560F24198, 560F24199, 560F24200, 560F24201, 560F24202.

Respondents/affected entities: State/local/Tribal governments; Non-Profits (who work on behalf of state/local/Tribal governments); Contractors (less than 10).

Respondent's obligation to respond: Required to obtain or Retain Benefits (2 CFR part 1500).

Estimated number of respondents: 2,697 (total).

Frequency of response: Varies but generally bi-annual for subtitle CERCLA 128 recipients and quarterly for CERCLA 104(k) recipients.

Total estimated burden: 11,546 hours (per year). Burden is defined at 5 CFR 1320.03(b).

Total estimated cost: $1,622,965 (per year), which includes $0 annualized capital or operation & maintenance costs.

Changes in the estimates: There is an increase of 7,738 hours in the total estimated respondent burden compared with the ICR currently approved by OMB. Of this increase, 5,057 hours can be attributed to the addition of six new forms for quarterly and annual progress reporting which was previously reported under EPA's general grants ICR (OMB Control Number 2030-0020). Recipients have always been required to submit quarterly/annual progress reports per their cooperative agreement terms and conditions, but this is the first time an electronic form option is available in ACRES for five cooperative agreement types and so those hours have now moved to this ICR. Including these forms in ACRES enables several fields to be prefilled with existing ACRES data, saving the recipient significant time compared to completing progress reporting outside of ACRES. The remaining 2,681 hours of the total increase is associated with ACRES forms previously submitted as part of this ICR and is primarily due to increased burden reported by recipients during consultations on the revised PPF Form and PALs Form. We expect in future years as recipients grow accustomed to the changes that the burden will decrease. Overall, respondents have indicated there have been tremendous improvements in the ACRES database to streamline reporting requirements over the past several years. The new quarterly and annual reporting forms continue such efforts and will help ensure recipients comply with their cooperative agreement terms and conditions.

Courtney Kerwin,
Deputy Director, Data and Enterprise Programs Division.

[FR Doc. 2026-00781 Filed 1-15-26; 8:45 am]

BILLING CODE 6560-50-P